NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 18, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of Industry and Security (N1-476-02-3, 15 items, 10 temporary items). Records accumulated by the Office of the Assistant Secretary for Export Administration. Included are such records as country files, chronological files, export control subject files, and licensing logs and decision files. Electronic copies of records created using electronic mail and word processing are also included. Records proposed for permanent retention include recordkeeping copies of subject files accumulated by the Assistant and Deputy Assistant Secretary, export policy advisory committee files, review board files, and operating committee files.

2. Department of Defense, Defense Information Systems Agency (N1-371-02-6, 46 items, 46 temporary items). Records relating to classified information accounting and control, information security, physical security, personnel security, communications security, and special compartmented information. Also included are electronic copies of documents created using electronic mail and word processing.

3. Department of Energy, Bonneville Power Administration (N1-305-02-1, 21 items, 21 temporary items). Records relating to the development and management of RTO West, a Regional Transmission Organization. Included are such records as reports, analyses, financial and technical records, and supporting materials. Also included are electronic copies of records created using word processing and electronic mail.

4. Department of Justice, Executive Office for United States Attorneys (N1-60-99-1, 26 items, 14 temporary items). Inputs, outputs, master files, and system documentation of the automated case management, collection management, and personnel resource management systems. Also included are electronic copies of records created using electronic mail and word processing. Proposed for permanent retention are the following master files with related system documentation: civil flagged master file; criminal flagged master file; criminal charge file; civil immediate declinations file; and criminal immediate declinations file. Also proposed for permanent retention are recordkeeping copies of the United States Attorney Annual Statistical Report.

5. Department of Justice, United States Attorneys Offices (N1-118-99-1, 7 items, 7 temporary items). Inputs, outputs, master files, and system documentation for the automated case management system (Legal Information Office Network System), collection management, and personnel management systems of the United States Attorneys. Also included are electronic copies of documents created using electronic mail and word processing.

6. Department of the Treasury, Bureau of the Public Debt (N1-53-02-13, 2 items, 2 temporary items). Records relating to redemption table verification and interest rate certification of current income bonds.

7. Environmental Protection Agency, Office of Enforcement and Compliance Assurance (N1-412-02-03, 5 items, 3 temporary items). Electronic software programs and paper and electronic input records associated with the Section Seven Tracking System, as automated system used to register and monitor domestic and foreign pesticide producing companies. The electronic data in this system is proposed for permanent retention as is the system documentation.

8. Federal Emergency Management Agency, Office of General Counsel (N1-311-02-4, 5 items, 5 temporary items). Records relating to the agency's Alternative Dispute and Resolution Program, including such records as case files, agreements, an electronic case file database, statistical reports, and summaries. Also included are electronic copies of records created using electronic mail and word processing.

9. Office of the Corrections Trustee, Agency-wide (N1-220-02-25, 5 items, 3 temporary items). Staff working files, financial records, and electronic copies of records created using electronic mail and word processing. Records proposed for permanent retention include recordkeeping copies of organization and interagency workgroup files, correspondence files, appointment calendars, and publications.

Dated: September 30, 2002.
Michael J. Kurtz,
Assistant Archivist for Record Services—Washington, DC.

[FR Doc. 02-25242 Filed 10-3-02; 8:45 am]

BILLING CODE 7515-01-P